DEPARTMENT OF HEALTH AND HUMAN SERVICES

National Biodefense Science Board: Notification of a Public Teleconference

AGENCY: Department of Health and Human Services, Office of the Secretary.

ACTION: Notice.

SUMMARY: As stipulated by the Federal Advisory Committee Act, the Department of Health and Human Services (HHS) is hereby giving notice that the National Biodefense Science Board (NBSB) will hold three teleconference meetings. The meetings are open to the public. Pre-registration is NOT required, however, individuals who wish to participate in the public comment session should e-mail NBSB@HHS.GOV to RSVP.

DATES: The meetings will be held on August 14, 2009, from 12 p.m. to 2 p.m. EDT, October 14, 2009, 12 p.m. to 2 p.m. EDT, and on November 13, 2009, 12 p.m. to 2 p.m. EST.

ADDRESSES: The meetings will occur by teleconference. To attend, please call 1-866-395-4129, pass-code “ASPR.” Please call 15 minutes prior to the beginning of the conference call to facilitate attendance.

FOR FURTHER INFORMATION CONTACT: Ms. Erin Fults, National Biodefense Science Board, Department of Health and Human Services, Room 5128, Switzer Building, 330 C St., SW., Washington, DC 20201. Phone: 202-260-1201; E-mail: NBSB@HHS.GOV

SUPPLEMENTARY INFORMATION: Pursuant to section 319M of the Public Health Service Act (42 U.S.C. 247d-7f) and section 222 of the Public Health Service Act (42 U.S.C. 217a), the Department of Health and Human Services established the National Biodefense Science Board. The Board shall provide expert advice and guidance to the Secretary on scientific, technical, and other matters of special interest to the Department of Health and Human Services regarding current and future chemical, biological, nuclear, and radiological agents, whether naturally occurring, accidental, or deliberate. The Board may also provide advice and guidance to the Secretary on other matters related to public health emergency preparedness and response.

These are special meetings of the NBSB. Discussions will surround issues related to Novel Influenza A H1N1.

For these special meetings, members of the public are invited to attend by teleconference via a toll-free call-in phone number. The call-in number will be operator assisted to provide members of the public the opportunity to provide comments to the Board. Public participation and ability to comment will be limited to time and space available. Public comment will be limited to no more than 3 minutes per speaker. To be placed on the public participant list, you should notify the operator when you enter the call-in number.

Any members of the public who wish to have printed material distributed to the NBSB should submit materials via email at NBSB@HHS.GOV, with “NBSB Public Comment” as the subject line, prior to the close of business one week before each meeting (conference call). A draft agenda and any additional materials/agendas will be posted on the NBSB Web site (HTTP://WWW.HHS.GOV/ASPR/OMSPH/NBSB/) prior to the meeting.

Dated: July 24, 2009.
Nicole Lurie,
Assistant Secretary for Preparedness and Response, Rear Admiral, U.S. Public Health Service.

[FR Doc. E9-18372 Filed 7-30-09; 8:45 am]

BILLING CODE 4150-37-P